DEPARTMENT OF TRANSPORTATION

Federal Aviation Administration

14 CFR Part 71

[Docket No. FAA-2022-1678; Airspace Docket No. 22-AWA-4]

Amendment of the Nashville International Airport Class C Airspace; Nashville, TN; and the John C. Tune Airport Class D Airspace; Nashville, TN

AGENCY: Federal Aviation Administration (FAA), DOT.

ACTION: Notice of proposed rulemaking (NPRM).

SUMMARY: This action proposes to reconfigure the Nashville International Airport (BNA) Class C airspace area, and amend the ceiling of the John C. Tune Airport (JWN) Class D airspace area. The FAA is proposing this action to reduce the risk of midair collisions, and enhance the efficient management of air traffic operations in the Nashville, TN, terminal area.

DATES: Comments must be received on or before March 28, 2023.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-1678; Airspace Docket No. 22-AWA-4, at the beginning of your comments. You may also submit comments through the internet at www.regulations.gov.

FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airspace structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1678; Airspace Docket No. 22-AWA-4) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1678; Airspace Docket No. 22-AWA-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5.00 p.m., Monday through Friday, except Federal holidays. An informal docket may also be examined during normal business hours at the office of the Eastern Service Center, Federal Aviation Administration, Room 210, 1701 Columbia Avenue, College Park, GA, 30337.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11F lists Class A, B, C, D, and E airspace areas, air traffic service routes, and reporting points.

Background

In 1986, the FAA issued a final rule that established the Nashville, TN, Airport Radar Service Area (ARSA) (51 FR 8284 (March 10, 1986). The establishment of the Nashville ARSA was effective on April 10, 1986. As a result of the Airspace Reclassification final rule (56 FR 65638; December 17, 1991), which became effective in September 1993, the term “Airport Radar Service Area” was replaced by “Class C airspace area.” As with the former ARSA, the primary purpose of a Class C airspace area is to reduce the potential for midair collisions in terminal areas and promote the efficient control of air traffic in those areas. Pilots are required to establish two-way radio communications with air traffic control (ATC) before entering Class C airspace, and they must maintain two-way radio communications with ATC while operating in that airspace. These requirements are designed to keep ATC informed of all aircraft operating within the Class C airspace area.

The BNA Class C airspace was last modified on June 27, 2013 (78 FR 27029; May 9, 2013) in order to remove a small cutout from the Class C surface area. The purpose of the cutout was to exclude the airspace within a 1.5 nautical mile (NM) radius of the former Cornelia Fork Airpark airport (located 4 NM north northwest of BNA) from the BNA Class C airspace area so that pilots could operate to and from the Airpark without the requirement to contact ATC. However, the Airpark has since been permanently closed rendering the cutout unnecessary. Otherwise, the BNA Class C is unchanged from its original configuration.

Operations at BNA are rebounding from the drop in traffic that resulted during the COVID-19 pandemic. In calendar year (CY) 2015, BNA hosted 174,178 instrument operations and 184,421 total operations. In CY 2019, BNA instrument operations were 221,532 out of 234,964 total operations. CY 2020 saw a drop to 151,342 instrument operations out of 163,365 total operations, while CY 2021 increased to 205,958 instrument operations and 219,427 total operations. From January 1 through November 20, 2022, 219,675 instrument operations and 231,575 total operations were reported. Similarly, BNA passenger enplanements grew significantly from 4,013,995 in CY 2020, to 7,594,049 in CY 2021 (the latest year for which validated figures are available). This represents an increase of more than 89% in enplanements over the previous year. Furthermore, air traffic in the Nashville terminal area has increased substantially in all categories of aircraft, including medical helicopter traffic.

Three busy satellite airports, near BNA: John C. Tune Airport (JWN), Smyrna Airport (MQY), and Murfreesboro Municipal Airport (MBT), generate traffic that routinely crosses the BNA final approach courses. Significant numbers of visual flight rules (VFR) aircraft, which are not in contact with ATC, routinely operate in the same airspace outside of the BNA Class C area that is also used by aircraft operating to and from BNA. Under this proposal, those VFR aircraft would be required to establish radio contact with ATC thereby enhancing safety and efficiency in the BNA terminal area.

Between July 2019 and February 2020, BNA Terminal Radar Approach Control (TRACON) logged over 300 instances where unidentified VFR aircraft operating just outside of the existing Class C airspace boundaries resulted in Traffic Alert and Collison Avoidance System (TCAS) alerts and/or air traffic controller actions to prevent potential conflicts between aircraft.

Common instances include:

• Unidentified, non-participating VFR aircraft that are not in contact with ATC skirting the Class C airspace boundary that create potential traffic conflicts with aircraft arriving or departing BNA;

• Increased workload for air traffic controllers due to the need for additional vectoring or altitude changes of BNA arrivals and departures to ensure separation from VFR aircraft that are operating just outside the Class C airspace, but not in radio communication with ATC;

• Non-participating aircraft crossing the final approach course to BNA, and;

• Unidentified aircraft violating the Class C airspace area.

Note: A non-participating aircraft is one that is not in radio communications with ATC, and is not receiving Class C ATC services.

The FAA proposes to address these issues by modifying the BNA Class C airspace area as follows:

• Partially extending lateral limits of Class C surface area (the inner ring) from a 5 NM radius to a 7 NM of BNA;

• Expanding the lateral limits of the Class C airspace by increasing the radius of the outer ring from 10 NM to 15 NM from BNA, and;

• Extending the upper altitude limit of the Class C airspace from 4,600 feet mean sea level (MSL) to 6,000 feet MSL, and lowering the floor of Class C airspace to 1,800 feet MSL in certain segments to the north and south of BNA.

Benefits of Modifying the BNA Class C Airspace Area

The proposed modifications of the current BNA Class C airspace area would enhance safety, efficiency, and airspace utilization by requiring pilots to establish and maintain radio communications with ATC prior to, and while operating in, the airspace. This would lessen the likelihood of BNA arrivals and departures encountering unknown aircraft that are not in contact with ATC. Other benefits would include:

• Enhanced safety by providing ATC the ability to segregate General Aviation aircraft from higher performance turbojet aircraft and from BNA arrival and departure traffic;

• Improved traffic patterns that allow for stabilized approaches to BNA;

• Reduced potential for IFR traffic encountering unidentified VFR aircraft, and;

• Reduced controller workload associated with vectoring or climbing/descending IFR aircraft to avoid unverified targets.

The unique combination of high volumes of general aviation and commercial operations, and transiting VFR aircraft that take place in the congested BNA terminal area support a proposal to expand the BNA Class C airspace area to enhance safety and efficiency.

The FAA believes that users would benefit from participation in the proposed expanded availability of Class C services around BNA which include: sequencing of all aircraft to the primary airport (BNA); standard IFR services to IFR aircraft; separation, traffic advisories, and safety alerts between IFR and VFR aircraft; and, mandatory traffic advisories and safety alerts between VFR aircraft.

Pre-NPRM Public Input

In May 2021, the FAA initiated action to form an Ad Hoc Committee (Committee) to seek input and recommendations from representatives of effected aviation users for the FAA to consider in designing proposed modifications to the BNA Class C airspace area. The purpose of an Ad Hoc Committee is to obtain preliminary input from affected users before a formal proposed airspace design is developed by the FAA for publication in a Notice of proposed rulemaking (NPRM).

The Committee met on August 25, 2021, at Murfreesboro Municipal Airport, TN. The Committee was chaired by a representative of the Metropolitan Nashville Airport Authority. Membership included representatives of local airports, state and local government offices, and aviation users. Attendance was both in person and virtually via the internet.

The Committee report stated that the proposed airspace modification appears to address the concerns raised by air traffic without being overly restrictive. Further, the Committee supported the overall goal of the proposed airspace modification to improve communication and coordination.

Ad Hoc Committee Recommendations

The Ad Hoc Committee submitted five recommendations for the FAA to consider.

First, the Committee recommended that the FAA extend the helicopter VFR corridors to the edge of the proposed new Class C airspace boundary, and review the corridor altitudes.

The FAA's review of the helicopter VFR corridors indicated no need for amendments with the Class C modification. The current transition points and tracks address the safety concerns where helicopters overfly the final approach courses at BNA and the way aircraft fly the approach will not change with the proposed Class C modification. The existing points were designed to transition VFR helicopters safely through the final approach course. They were not designed as reporting points for entering or exiting Class C airspace.

Second, the FAA should review all existing airspace Letters of Agreement (LOA) for impacts/changes as a result of the proposed Class C airspace modification.

The FAA plans to review all LOAs and Standard Operating Procedures (SOP) for potential impacts and needed changes with respect to the proposed Class C airspace modification.

Third, coordinate with local remote controlled (RC) aircraft club(s) that may fall within the proposed new inner ring to establish LOAs for safe operations of RC aircraft/unmanned aircraft systems (UAS).

The FAA reviewed known local RC clubs and determined that only the Music City Aviators (MCA) club will fall within the new inner ring boundary. The MCA LOA has been reviewed and no changes are needed due to the Class C modification.

Fourth, inform JWN and MQY stakeholders of the requirement for Mode C/ADS-B equipage for arrivals/departures through the proposed new Class C airspace (2,400 feet for JWN and 2,400 feet for MQY).

If the proposed Class C modification is approved, BNA and the Metropolitan Nashville Airport Authority will communicate the changes with the local flying community via airport meetings, public outreach, and Letters to Airmen.

Fifth, coordinate with MQY on the impact of the proposed inner ring extension overlapping MQY Class D airspace when operating on a MQY Runway 14 approach. Consider providing a notch or cutout in the BNA Class C to accommodate MQY Runway 14 approaches.

The FAA determined that creating a notch or cutout in the BNA Class C airspace to accommodate Runway 14 approaches would create a hazard for aircraft arriving and departing BNA. Currently, MQY Runway approaches are rarely approved due to conflicts/impact at BNA. Unfortunately, FAA is unable to accommodate this recommendation.

Informal Airspace Meeting

Informal Airspace Meetings provide the FAA another avenue to gather additional information to assist in the development of an airspace proposal before issuance of a NPRM.

As announced in the Federal Register (86 FR 70991; December 14, 2021), an Informal Airspace Meeting concerning proposed modifications of the BNA Class C airspace area was held on February 22, 2022. The meeting was conducted virtually as a webinar via the Zoom application. There were 122 registered attendees; however, many more watched the meeting on the FAA's social media sites. Seven comments were received from the attendees.

Discussion of Informal Airspace Meeting Comments

Two commenters addressed the proposed floor of Class C airspace on the east and west sides of BNA. The first commenter, who flies from TK Farm Airport (TN26), requested that the Class C floor on the east side be raised from 2,100 feet MSL to 2,400 feet MSL. The second commenter, who trained at Smyrna Airport (MQY) asked that the Class C floor on the east and west sides be raised to 3,500 feet MSL.

The FAA considered these suggestions. Discussions between BNA and MQY resulted in amending the proposed floor on the east side of the Class C (between 7 and 15 NM from BNA) from 2,100 feet MSL to 2,400 feet MSL. This raises the Class C floor over TN26 to 2,400 feet MSL as requested. This will allow aircraft to remain under the Class C airspace in order to reduce the need for multiple radio frequency changes in that area. Aircraft will have the option to maintain communication with MQY control tower only. However, the FAA is unable to raise the floor on the east and west outer rings to 3,500 feet MSL due to conflicts with the BNA departure release area; John C. Tune (JWN) departures and arrivals; BNA downwind traffic; and MQY departures and arrivals.

One commenter stated concerns that radio communications systems are deficient in the area adjacent to, and east of, the Nashville Class C airspace. The commenter stated that this issue could be resolved with the installation of a Remote Communications Air/Ground facility (RCAG) at or near the Upper Cumberland Regional Airport (SRB) in Sparta, TN.

While the FAA is proposing to expand the BNA Class C airspace from the current 10 NM ring to a 15 NM ring, the FAA will not be expanding Nashville Approach Control's delegated airspace boundary beyond its current eastern limit. SRB airport is an additional 18 NM east of the Nashville Approach Control's airspace boundary line. Radio communications at SRB is outside of Nashville Approach airspace and therefore is not included in the Class C changes. Since Memphis ARTCC is the overlying control facility for SRB, frequency requests should be made with Memphis ARTCC. The FAA does not believe that expanding the BNA Class C airspace to the 15 NM ring will have any impact on the volume of traffic near SRB.

A pilot who regularly flies between JWN and MQY wrote that, most of the time they communicate with BNA, but if the controllers are busy, they will fly under the Class C shelf. The pilot was concerned that 1,800 feet MSL is very low and could cause poor decision making by some pilots. The commenter suggested the FAA provide an East-West VFR corridor that goes over the top of BNA for this purpose.

The FAA acknowledges that the Class C changes may impact the routing of VFR aircraft into and around Nashville. Until the FAA fully understands how VFR traffic will flow around the proposed modified airspace, the FAA will defer consideration of adding VFR corridors. The FAA encourages pilots to contact ATC for services to overfly BNA, and for services between JWN and MQY.

A commenter asked if the changes around Nashville would result in flight paths that are more concentrated, at lower altitudes, and with less separation between planes. The commenter also asked about the impact of noise.

The BNA Class C modification will not affect departure or arrival routes, nor result in lower altitudes or concentrated flight paths. It will provide for increased separation between participating aircraft during critical phases of flight allowing ATC to provide traffic advisories in a larger area around BNA. The noise at BNA is subject to aircraft arriving and departing over which the Class C change has no direct correlation.

A pilot asked if the Class C modification will make it easier for VFR flights to get radar traffic advisories.

ATC will continue to provide VFR flight following services as duty priorities allow, an increased area of Class C airspace may result in increased need for ATC services.

An airline pilot asked if the Class C change would have any flying operational impact on his carrier.

There will be no changes to procedures for air carrier aircraft. However, safety will be increased between IFR commercial arrivals and departures and VFR aircraft transiting in and around the proposed Class C airspace.

A pilot based at JWN wrote in support of any improvements to better manage and separate traffic around JWN. The pilot cited cases where it was difficult to make contact with ATC due to frequency congestion and, what the commenter sensed to be later than desired handoffs from approach control to JWN Tower. The commenter asked if the Class C modification would lead to more air traffic controllers being assigned.

The LOA between the BNA Airport Traffic Control Tower and the JWN Federal Contract Tower (FCT) was revised in February 2022 to address the transfer of communications of JWN arrivals to JWN FCT. A second revision of the LOA addresses the matching of runways in use between BNA and JWN, and streamlining the coordination of inbound aircraft with JWN. The Class C change would extend the airspace to the west of the JWN Class D airspace, but the outer lower shelf altitude would remain unchanged at 2,400 feet MSL. This would increase the separation of aircraft and the ability for ATC to provide traffic advisories and other services. The Class C proposal would not lead to an increased number of controllers.

One commenter stated three concerns about the Class C proposal. First, the commenter cited concern about the Class C segments located southeast and northeast of JWN that have a floor set at 1,800 feet MSL because there are towers that extend up to 2,049 feet MSL near the boundaries of those Class C segments. The commenter said that this could pose a problem for VFR pilots flying below 1,800 feet MSL under either lower Class C segment, and approaching near a 2,049 feet MSL tower. The commenter said that the floor of the Class C should be raised to a consistent 2,400 feet MSL. Second, the commenter contended that coordination between BNA approach control and JWN tower needs improvement. The commenter wrote that installing a radar display in JWN tower would enhance traffic management and coordination. Third, the commenter asked for confirmation that the expansion of the Class C airspace would result in a previously proposed skydiving operation at JWN being denied.

Regarding the comment about the 1,800-foot Class C segments, the lower floors of the Class C to the north and south of BNA are to ensure that IFR aircraft in critical stages of flight do not conflict with nonparticipating VFR aircraft skirting around the inner Class C ring. This design is necessary for safe air traffic operations into and out of BNA. Raising the floor of these segments to 2,400 feet MSL would negate the protection for BNA arriving aircraft. The towers noted by the commenter are depicted on the Sectional Aeronautical Charts that cover the Nashville area and are lighted in accordance with 14 CFR part 77. The FAA is not aware of pilots having issues with the towers. Ultimately, it is the pilot's responsibility to evaluate all factors that could affect a planned flight, such as minimum safe altitudes, and determine the safest course of action. Pilots are encouraged to contact ATC to take advantage of Class C services.

Regarding the comment about coordination between BNA and JWN, as discussed under a previous comment, above, the LOA between BNA and JWN has been revised recently to address transfer of communications and coordination issues. Installation of a radar display at JWN is not planned as part of the Class C airspace proposal.

Lastly, while skydiving operations at JWN are outside the scope of this rulemaking action, the FAA is addressing the matter in a separate forum.

The Proposal

The FAA is proposing an amendment to 14 CFR part 71 to modify the BNA Class C airspace area and to amend the ceiling of the JWN Class D airspace area.

The current BNA Class C airspace area consists of that airspace extending upward from the surface to and including 4,600 feet MSL within a 5 NM radius of BNA; and that airspace extending upward from 2,100 feet MSL to and including 4,600 feet MSL within a 10 NM radius of BNA from the 019° bearing from BNA clockwise to the 198° bearing from BNA; and that airspace extending upward from 2,400 feet MSL to and including 4,600 feet MSL within a 10 NM radius of BNA from the 198° bearing from BNA clockwise to the 018° bearing from BNA.

This proposal would make minor edits in the text header of the BNA Class C airspace description, as published in FAA Order JO 7400.11, by updating BNA airport reference point (ARP) coordinates from “lat. 36°07′28″ N, long. 86°40′42″ W” to “lat. 36°07′28″ N, long. 86°40′41″ W” which reflects the latest information in the Airport Master Records file. In addition, the Smyrna Airport, TN, would be added to the text header because that airport is referenced in the Class C description. The proposed Class C modifications are described below.

The FAA is proposing to expand the BNA Class C surface area to extend from the surface up to and including 6,000 feet MSL. Additionally, the surface area radius would be extended from the current 5 NM from BNA to 7 NM from BNA from the 335° bearing from the airport clockwise to the 230° bearing from the airport. The surface area radius would remain at 5 NM from BNA from the 230° bearing clockwise to the 335° bearing from the airport. The Class C surface area would exclude that portion within the Smyrna Airport Class D airspace area.

Additionally, the Class C would include that airspace extending upward from 1,800 feet MSL to and including 6,000 feet MSL within a 15 mile radius of BNA from the 335° bearing from BNA clockwise to the 060° bearing from BNA.

Additionally, the Class C would include that airspace extending upward from 2,400 feet MSL to and including 6,000 feet MSL within a 15 NM radius of BNA from the 060° bearing from BNA clockwise to the 155° bearing from BNA, excluding that portion within the Smyrna Airport Class D airspace area.

Additionally, the Class C would include that airspace extending upward from 1,800 feet MSL to and including 6,000 feet MSL within a 15 NM radius of BNA from the 155° bearing from BNA clockwise to the 230° bearing from BNA.

Additionally, the Class C would include that airspace extending upward from 2,400 feet MSL within a 15 NM radius of BNA from the 230° bearing from BNA clockwise to the 335° bearing from BNA.

John C. Tune Airport (JWN) Class D Airspace Area

The FAA is proposing to amend the ceiling of the JWN Class D airspace area by lowering the ceiling from 2,500 feet MSL “to but not including 2,400 feet MSL.” The proposed westward expansion of the BNA Class C airspace, with a floor of 2,400 feet MSL, would overlie the JWN Class D airspace. Lowering the Class D ceiling as proposed would create a clear delineation between the Class C and Class D airspace areas.

In developing the above proposed modifications, the FAA has considered the public input received from the Ad Hoc Committee, and the informal airspace meetings.

Class C airspace areas are published in paragraph 4000, and Class D airspace areas are published in paragraph 5000, respectively, of FAA Order JO 7400.11G, dated August 19, 2022, and effective September 15, 2022, which is incorporated by reference in 14 CFR 71.1. The Class C airspace, and Class D airspace modifications proposed in this document would be published subsequently in FAA Order JO 7400.11.

Paperwork Reduction Act

The Paperwork Reduction Act of 1995 (44 U.S.C. 3507(d)) requires that the FAA consider the impact of paperwork and other information collection burdens imposed on the public. The FAA has determined that there is no new information collection requirement associated with this proposed rule.

Regulatory Notices and Analyses

Regulatory Notices and Analyses Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). The current threshold after adjustment for inflation is $165 million, using the most current (2021) Implicit Price Deflator for the Gross Domestic Product.

In conducting these analyses, the FAA has determined that this proposed rule: (1) is expected to have a minimal cost impact, (2) is not an economically “significant regulatory action” as defined in section 3(f) of Executive Order 12866, (3) is not significant under the Department of Transportation's administrative procedure rule on rulemaking at 49 CFR 5.13; (4) not have a significant economic impact on a substantial number of small entities; (5) does not create unnecessary obstacles to the foreign commerce of the United States; and (6) does not impose an unfunded mandate on state, local, or tribal governments, or on the private sector by exceeding the threshold identified above. These analyses are summarized below.

As discussed above, the FAA determined that changes put forth in this proposed rule would reduce the risk of midair collisions, and enhance air traffic control efficiency, and airspace utilization. The proposed rule would reconfigure BNA Class C airspace area and amend the ceiling of JWN Class D airspace area. The FAA considered recommendations from an Ad Hoc Committee and informal airspace meetings from the stakeholders. The Committee report stated that the proposed airspace modification appears to address the concerns raised by air traffic without being overly restrictive. Further, the Committee supported the overall goal of the proposed airspace modification to improve communication and coordination.

In addition, air traffic in the Nashville terminal area has increased dramatically in all categories of aircraft. The goals of the proposal are to reduce the risk of midair collisions and improve the efficient management of air traffic operations in the Nasville, TN, terminal area.

The proposal to modify the BNA Class C airspace area would require VFR aircraft to establish radio contact with ATC thereby enhancing safety and efficiency in the BNA terminal area. VFR operators would only need to make minor adjustments to accommodate the expanded availability of Class C services around BNA. Therefore, the FAA expects the proposal would result in minimal cost to VFR operators. The FAA requests comments on the benefits and costs of this proposal to inform the final rule.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines it will, it must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The proposed rule would reconfigure BNA Class C airspace area and amend the ceiling JWN Class D airspace area. The FAA is proposing this action to reduce the risk of midair collisions, and enhance the efficient management of air traffic operations in the Nashville, TN, terminal area. The FAA determined that changes put forth in this would increase airspace safety and efficiency.

The change would affect general aviation operators using BNA Class C airspace area and amend the ceiling JWN Class D airspace area. Operators flying VFR would need to adjust their flight paths to avoid the modified Class C airspace and Class D airspace, if the pilots desire to operate without contacting ATC. However, the proposed modifications are intended to address the concerns raised by air traffic without being burdensome. Therefore, as provided in section 605(b), the head of the FAA certifies that this rulemaking would not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $165 million in $100 million. This proposed rule does not contain such a mandate; therefore, the requirements of Title II of the Act do not apply. the safe, orderly, and expeditious flow of civil air traffic.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of the Federal Aviation Administration Order JO 7400.11G, Airspace Designations and Reporting Points, dated August 19, 2022, and effective September 15, 2022, is amended as follows:

Paragraph 4000 Subpart C—Class C Airspace.

* * * * *

ASO TN C Nashville, TN [Amended]

Nashville International Airport, TN

(Lat. 36°07′28″ N, long. 86°40′41″ W)

Smyrna Airport, TN

(Lat. 36°00′32″ N, long. 86°31′12″ W)

That airspace extending upward from the surface to 6,000 feet MSL within a 5-mile radius of Nashville International Airport from the 230° bearing from the airport clockwise to the 335° bearing from the airport; and that airspace extending upward from the surface to 6,000 feet MSL within a 7-mile radius of Nashville International Airport from the 335° bearing from the airport clockwise to the 230° bearing from the airport, excluding that portion within the Smyrna Airport, TN, Class D airspace area; and that airspace extending upward from 1,800 feet MSL to 6,000 feet MSL within a 15-mile radius of Nashville International Airport from the 335° bearing from the airport clockwise to the 060° bearing from the airport; and that airspace extending upward from 2,400 feet MSL to 6,000 feet MSL within a 15-mile radius of the airport from the 060° bearing from the airport clockwise to the 155° bearing from the airport, excluding that portion within the Smyrna Airport, TN, Class D airspace area; and that airspace extending upward from 1,800 feet MSL to 6,000 feet MSL within a 15-mile radius of Nashville International Airport from the 155° bearing from the airport clockwise to the 230° bearing from the airport; and that airspace extending upward from 2,400 feet MSL to 6,000 feet MSL within a 15-mile radius of Nashville International Airport from the 230° bearing from the airport clockwise to the 335° bearing from the airport.

* * * * *

Paragraph 5000 Subpart D—Class D Airspace.

* * * * *

ASO TN D Nashville, TN [Amended]

John C. Tune Airport, TN

(Lat. 36°10′59″ N, long. 86°53′11″ W)

That airspace upward from the surface to but not including 2,400 feet MSL within a 4.1-mile radius of John C. Tune Airport, and within 1.2-miles each side of the 195° bearing from the airport, extending from the 4.1-mile radius to 6.1-miles south of the airport, and within 1.2-miles each side of the 015° bearing from the airport, extending from the 4.1-mile radius to 6.1-miles north of the airport. This Class D airspace area is effective during the specific dates and times established in advance by a Notice to Air Missions. The effective dates and times will thereafter be continuously published in the Chart Supplement.

* * * * *

Issued in Washington, DC, on January 17, 2023.
Brian Konie,
Acting Manager, Airspace Rules and Regulations.

[FR Doc. 2023-01022 Filed 1-26-23; 8:45 am]

BILLING CODE 4910-13-P